DEPARTMENT OF COMMERCE

National Oceanic and Atmospheric Administration

Proposed Information Collection; Comment Request; Estuary Restoration Act Database Projects

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 7, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Perry Gayaldo, NMFS Restoration Center, 1315 East-West Highway, Silver Spring, MD 20910 or Perry.Gayaldo@noaa.gov.

SUPPLEMENTARY INFORMATION:

I. Abstract

Estuary habitat restoration project information (e.g., location, habitat type, goals, status, monitoring information) is collected in order to populate a restoration project database mandated by the Estuary Restoration Act (ERA) of 2000. The Estuary Restoration Act Database (ERAD) contains information for estuary habitat restoration projects funded through the ERA as well as non-ERA project data that meet quality control requirements and data standards established under the Act. The database provides information to improve restoration methods, provides the basis for required reports to Congress, and tracks estuary habitat acreage restored. It is accessible to the public via the Internet for data queries and project reports. Recipients of ERA funds are required to submit specific information on habitat restoration projects into the ERAD database through an interactive Web site available over the Internet. The projects that are not funded through the ERA can be voluntarily entered into the database by project managers. Other federal agency and private grant programs may also require recipients to enter project information in the ERAD database.

II. Method of Collection

Project managers will electronically submit estuary restoration project information via NOAA's Estuary Restoration Act Database Web site (https://neri.noaa.gov/). The Web site contains a user-friendly data entry interface for project managers to enter and submit project information to the ERAD database. The data entry interface consists of a series of screens, containing several pull-down menus and text boxes, where users can enter specific project information (e.g. location, acreage restored, contacts, monitoring information). To facilitate the collection of information through the data entry interface, NOAA Fisheries provides worksheets containing database fields that can be downloaded and printed from the Web site. These worksheets can be used by project managers to guide information collection, and can then serve as a reference as project managers enter project information through the Web site. The reporting forms are also available in paper format to be sent to project managers as necessary.

III. Data

OMB Number: 0648-0479.

Form Number: None.

Type of Review: Regular submission.

Affected Public: Not-for-profit institutions; state, local, and tribal governments; and businesses or other for-profit (limited to organizations in the above categories engaging in estuary habitat restoration).

Estimated Number of Respondents: 255.

Estimated Time Per Response: Four hours for new projects submitted; and two hours for updates to current projects.

Estimated Total Annual Burden Hours: 810.

Estimated Total Annual Cost to Public: None.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 31, 2006.
Gwellnar Banks,
Management Analyst, Office of the Chief Information Officer.

[FR Doc. E6-1532 Filed 2-3-06; 8:45 am]

BILLING CODE 3510-22-P